FEDERAL MINE SAFETY AND HEALTH REVIEW COMMISSION

Senior Executive Service; Performance Review Board

AGENCY: Federal Mine Safety and Health Review Commission.

ACTION: Notice.

SUMMARY: This notice announces the appointment of the members of the Performance Review Board (PRB) for the Federal Mine Safety and Health Review Commission. The PRB reviews the performance appraisals of career and non-career senior executives. The PRB makes recommendations regarding proposed performance appraisals, ratings, bonuses, pay adjustments, and other appropriate personnel actions.

DATES: Applicable on October 6, 2023.

FOR FURTHER INFORMATION CONTACT: Joshua Poole, Senior Management and Program Analyst, Federal Mine Safety and Health Review Commission, (202) 577-6831.

SUPPLEMENTARY INFORMATION: This Notice announces the appointment of the following primary and alternate members to the Federal Mine Safety and Health Review Commission PRB:

Primary Members:

Craig Brown, Deputy Director, Selective Service System (acting)

Charlotte Dye, Deputy General Counsel, Federal Labor Relations Authority

Peggy Gartner, Deputy Office Head, U.S. National Science Foundation

Alternate Members: None.

Authority: 5 U.S.C. 4313(c)(4).

Joshua Poole,
Senior Management and Program Analyst, Federal Mine Safety and Health Review Commission.

[FR Doc. 2023-22285 Filed 10-5-23; 8:45 am]

BILLING CODE 6735-01-P